FEDERAL COMMUNICATIONS COMMISSION

[CG Docket No. 03-123; DA 13-770]

Pleading Cycle Established for Comment on Applications for State Certification for the Provision of Telecommunications Relay Service

AGENCY: Federal Communications Commission.

ACTION: Notice.

SUMMARY: In this document, the Commission seeks public comment on state applications for renewal of the certification of their state TRS programs pursuant to Title IV of the Americans with Disabilities Act (ADA).

DATES: Comments are due on or before April 29, 2013, and reply comments are on or before May 13, 2013.

ADDRESSES: You may submit comments, identified by CG Docket No. 03-123 and the relevant state identification number of the state application that is being comment upon, by any of the following methods:

Electronic Filers: Comments may be filed electronically using the Internet by accessing the Commission's Electronic Comment Filing System (ECFS), through the Commission's Web site http://apps.fcc.gov/ecfs// or by filing paper copies. Filers should follow the instructions provided on the Web site for submitting comments. In completing the transmittal screen, filers should include their full name, U.S. Postal service mailing address, and the applicable docket number.

• Paper filers: Parties who choose to file by paper must file an original and one copy of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th St. SW., Washington, DC 20554.

FOR FURTHER INFORMATION CONTACT: Dana Wilson, Consumer and Governmental Affairs Bureau, Disability Rights Office, at (202) 418-2247, or email Dana.Wilson@fcc.gov.

SUPPLEMENTARY INFORMATION: This is a summary of the Commission's document DA 13-770. Pursuant to 47 CFR 1.415 and 1.419, interested parties may file comments and reply comments on or before the dates indicated in the DATES section. The full text of document DA 13-770, copies of applications for certification, and subsequently filed documents in this matter are available for public inspection and copying during regular business hours at the FCC Reference Information Center, Portals II, 445 12th St. SW., Room CY-A257, Washington, DC 20554. Document DA 13-770 also is available on the Commission's Web site at: http://transition.fcc.gov/cgb/dro/trs.html. Document DA 13-770, copies of applications for certification, and subsequently filed documents in this matter may also be found by searching ECFS at http://apps.fcc.gov/ecfs//. When searching for the state application in ECFS, please enter docket number 03-123 in the proceeding number fill-in block, and the state identification number, (e.g., TRS-19-12) assigned for that specific state application in the bureau identification number fill-in block. They may also be purchased from the Commission's duplicating contractor at Portals II, 445 12th St. SW., Room CY-B402, Washington, DC 20554; the contractor's Web site, http://www.bcpiweb.com; or by calling (800) 378-3160. To request materials in accessible formats for people with disabilities (Braille, large print, electronic files, audio format), send an email to fcc504@fcc.gov or call the Consumer and Governmental Affairs Bureau at 202-418-0530 (voice), 202-418-0432 (TTY).

Synopsis

Notice is hereby given that the states listed below have applied to the Commission for renewal of the certification of their state telecommunications relay service (TRS) programs pursuant to Title IV of the ADA, 47 U.S.C. 225, and the Commission's rules, 47 CFR 64.601-605. Current state certifications expire July 25, 2013. A state's application for certification, covering the five year period from July 26, 2013 to July 25, 2018, must demonstrate that the state TRS program complies with section 225 and the Commission's rules governing the provision of TRS. This notice seeks public comment on the following state applications for certification:

File No: TRS-19-12:
Department of Commerce, State of Alaska.
File No: TRS-06-12:
Public Service Commission of West Virginia, State of West Virginia.
File No: TRS-61-12:
Virgin Islands Public Services Commission, U.S. Virgin Islands.

Federal Communications Commission
Karen Peltz Strauss,
Deputy Chief, Consumer and Governmental Affairs Bureau.

[FR Doc. 2013-09961 Filed 4-26-13; 8:45 am]

BILLING CODE 6712-01-P